DEPARTMENT OF HEALTH AND HUMAN SERVICES

Health Resources and Services Administration

Single Source Award; Exception to Competition

AGENCY: Health Resources and Services Administration (HRSA), HHS.

ACTION: Notice of Exception to Competition—Single Source Award to Texas Area Health Education Centers (AHEC) East—University of Texas Medical Branch.

SUMMARY: The Health Resources and Services Administration (HRSA)'s Bureau of Health Professions is issuing a non-competitive single source award to the Texas AHEC East—University of Texas Medical Branch, an AHEC program grantee, to add a Behavioral Health component to a Community Health Worker (CHW) curriculum, pilot and evaluate it in primary care settings, and disseminate the curriculum. This project shall be titled: Community Health Worker (CHW) Behavioral Health Primary Care Integration Project. In fiscal year (FY) 2012, $486,394 will be available to fully fund this cooperative agreement with a single project/budget period of four years. The Texas AHEC East is uniquely qualified and has the capacity, capability, expertise, experience, and infrastructure to expeditiously, effectively, and efficiently implement the CHW Behavioral Health Primary Care Integration Project within their existing educational programming, and disseminate the tested model nationally. CHWs play an important role in increasing access to services for vulnerable populations, and increasing support for direct service workers, including community health workers, which is a priority for the Department of Health and Human Services as well as the Health Resources and Services Administration.

SUPPLEMENTARY INFORMATION: Intended Recipient of the Award: Texas AHEC East—University of Texas Medical Branch.

Amount of Award: $486,394.

Authority: Section 751 of the Public Health Service Act (42 USC 294a), as amended by Section 5403 of the Patient Protection and Affordable Care Act, Public Law 111-148.

CFDA Number: 93.107.

Project Period: September 30, 2012, through September 29, 2016.

Justification: The Texas AHEC East is uniquely qualified to carry out the CHW Behavioral Health Primary Care Integration Project because of their demonstrated expertise in the training of CHWs and CHW instructors for certification, and because of their proven track record as pioneers of the CHW apprenticeship model.

The Texas AHEC East has an existing infrastructure with staff expertise, and a proven track record in curriculum design and training to develop a behavioral health curriculum that can augment the existing CHW training program, as well as strong partnerships with community-based primary care providers to implement, pilot, and evaluate the curriculum in primary care settings.

Furthermore, the proposed Project Director is recognized for her work and expertise in CHW training, serves as the Chair of the National AHEC Organization's Community Health Worker workgroup, and is a member of the American Public Health Association's Community Health Worker section. She has presented at national meetings and at several states' CHW meetings on designing CHW training curriculum, as well as the CHW apprenticeship-training model. As a result of these collaborations and recognitions, significant opportunities exist for national dissemination and replication of this project. Providing the additional funding to an existing grantee (Texas AHEC East—University of Texas Medical Branch) also has benefits for program evaluation purposes, since AHEC grantees have existing evaluation requirements with which they comply. This award aligns with the current AHEC budget period cycle, resulting in administrative savings over a competitive grant making process.

FOR FURTHER INFORMATION CONTACT: Meseret Bezuneh, Project Officer, Health Resources and Services Administration, Division of Public Health and Interdisciplinary Education, 5600 Fishers Lane, Room 9C-05, Rockville, Maryland 20857; Phone: (301) 594-4149, Email: mbezuneh@hrsa.gov.

Dated: September 25, 2012.
Mary K. Wakefield,
Administrator.

[FR Doc. 2012-24103 Filed 9-28-12; 8:45 am]

BILLING CODE 4165-15-P